DEPARTMENT OF AGRICULTURE

Forest Service

Land Management Planning—Transition to 2004 Planning Rule for Previously Initiated Plan Revision

AGENCY: Pike & San Isabel National Forests, Cimarron & Comanche National Grasslands, USDA.

Authority: 36 CFR 219.14(e).

Notice: Transition to 2004 Planning Rule for previously initiated Land Management Plan revision, Pike and San Isabel National Forests, Cimarron and Comanche National Grasslands.

SUMMARY: The Pike and San Isabel National Forests, Cimarron and Comanche National Grasslands will transition to the 2004 Planning Rule while revising the Land and Resource Management Plan.

DATES: Transition is effective upon publication of this Federal Register Notice.

FOR FURTHER INFORMATION CONTACT: Barb Masinton, 719-553-1475.

SUPPLEMENTARY INFORMATION: The Responsible Official (Forest Supervisor) for the Pike and San Isabel National Forests, Cimarron and Comanche, National Grasslands has elected to transition the previously-initiated Land and Resource Management Plan (Plan) Revision so that it falls under the requirements of the 2004 Planning Rule (January 5, 2005, 70 FR 1055). The Plan Revision will be conducted in accordance with all Forest Service directives applicable to the 2004 Planning Rule.

All four proclaimed units (Pike, San Isabel, Cimarron, and Comanche) fall under the current Plan. As part of the revision process, the Responsible Official will prepare two Plans. The first will involve the Cimarron and Comanche National Grasslands—the draft is scheduled for public comment in late 2005; the final will be completed in late 2006. The second of the two revised Plans will involve the Pike and San Isabel National Forests—the draft is scheduled for public comment in late 2008; the final will be completed in late 2009.

The public will be invited to collaborate during the development of each revised Plan. Key steps for collaboration occur during development and any subsequent updating of the comprehensive evaluation report, establishing the components of the plan, and in designing the monitoring program. The Responsible Official will decide upon and announce the methods and timing for public participation and involvement.

Dated: April 28, 2005.
Robert J. Leaverton,
Forest Supervisor.

[FR Doc. 05-10567 Filed 5-25-05; 8:45 am]

BILLING CODE 3410-ES-M